NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 28, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Grain Inspection, Packers and Stockyards Administration (N1-545-10-1, 1 item, 1 temporary item). Master files for an electronic information system used to manage the national grain inspection and weighing program.

2. Department of Health and Human Services, Food and Drug Administration (N1-88-09-11, 3 items, 3 temporary items). Files and reports relating to fees charged for services to industry and annual fees relating to products currently on the market. Also included are master files used for tracking the receipt and payment of user fees.

3. Department of Homeland Security, Immigration and Customs Enforcement (N1-567-09-5, 1 item, 1 temporary item). Master files for an electronic information system that contains information concerning aliens who are allowed to live outside of a detention facility while undergoing the deportation process.

4. Department of Homeland Security, Immigration and Customs Enforcement (N1-567-09-6, 3 items, 3 temporary items). Master files and outputs for an electronic information system that maintains information concerning suspected immigration status violators.

5. Department of the Interior, Southwestern Pennsylvania Heritage Preservation Commission (N1-48-09-14, 13 items, 6 temporary items). Records relating to operational functions of the Commission, including such records as project files, grants management records, and general correspondence. Proposed for permanent retention are substantive files, such as policy records, publications, Executive Committee records, and photographs.

6. Department of Justice, Executive Office for U.S. Attorneys (N1-60-09-30, 4 items, 4 temporary items). Records relating to the accreditation of continuing legal education courses sponsored by the Office of Legal Education. Included are such records as certifications, credit instruction packets, and individual state accreditation files.

7. Department of Justice, National Drug Intelligence Center (N1-523-09-3, 1 item, 1 temporary item). Master files of an electronic information system that tracks intelligence projects. Included is such information as project number and title, name of analyst assigned to the project, and dates of initiation and completion.

8. Department of Justice, U.S. Trustee Program (N1-60-09-53, 3 items, 3 temporary items). Master files of an electronic information system used to track the application and approval process for agencies and vendors being considered as credit and debt counseling providers.

9. Department of State, Bureau of East Asian and Pacific Affairs (N1-59-09-10, 6 items, 2 temporary items). Records relating to trips, as well as country files consisting of extra copies of telegrams. Proposed for permanent retention are calendars and appointment books of the Assistant Secretary, subject files, policy files, and files relating to interagency meetings. The proposed disposition instructions are limited to paper records for permanent items.

10. Department of State, Bureau of Human Resources (N1-59-09-46, 1 item, 1 temporary item). Records relating to career development workshops, such as instructors' materials and handouts.

11. Department of State, Bureau of Public Affairs (N1-59-09-23, 1 item, 1 temporary item). Master files of an electronic information system that contains data concerning the media environment in specific countries.

12. Department of State, Foreign Service Institute (N1-59-09-47, 1 item, 1 temporary item). Records relating to students at the School of Applied Information Technology. Records relate to such matters as courses taken, attendance, class rosters, funding for travel, and evaluations.

13. Department of State, Office of the Chief of Protocol (N1-59-09-45, 1 item, 1 temporary item). Master files of an electronic information system containing information on guests and participants at events.

14. Department of the Treasury, Internal Revenue Service (N1-58-09-38, 3 items, 3 temporary items). Master files, outputs, and system documentation associated with an electronic information system used to collect and centralize data from other agency systems for more efficient analysis.

15. Department of the Treasury, Internal Revenue Service (N1-58-09-39, 2 items, 2 temporary items). Master files and system documentation associated with an electronic information system used to provide states with taxpayer information.

16. Department of the Treasury, Internal Revenue Service (N1-58-09-46, 2 items, 2 temporary items). Master files and system documentation associated with an electronic information system used to track employee workload regarding taxpayer information requests at customer services sites.

17. Department of the Treasury, Internal Revenue Service (N1-58-09-47, 3 items, 3 temporary items). Master files, outputs, and system documentation associated with an electronic information system which stores scanned payment images in order to expedite access to taxpayer remittance information.

18. Department of the Treasury, Internal Revenue Service (N1-58-09-58, 4 items, 4 temporary items). Master files, inputs, outputs, and system documentation associated with an electronic information system used in connection with notifying taxpayers of potential backup withholding due to unmet tax obligations.

19. Department of the Treasury, Internal Revenue Service (N1-58-09-111, 4 items, 4 temporary items). Master files, inputs, and system documentation associated with an electronic information system used to issue calling cards to employees who must place long distance telephone calls while traveling on business.

20. Department of the Treasury, Internal Revenue Service (N1-58-09-112, 2 items, 2 temporary items). Master files and system documentation associated with an electronic information system used to store information concerning solutions and remedies to technical problems and issues.

21. Agency for International Development, Management Bureau (N1-286-09-5, 1 item, 1 temporary item). Master files associated with an electronic information system used in connection with agency procurement activities.

22. Environmental Protection Agency, Agency-wide (N1-412-08-16, 1 item, 1 temporary item). Duplicative comments received from stakeholders that have been summarized. Summaries were previously approved for permanent retention.

23. Environmental Protection Agency, Agency-wide (N1-412-10-1, 2 items, 2 temporary items). Electronic and paper input documents associated with an electronic information system that contains information on toxic chemical releases and other waste management activities. Records were previously approved for disposal. The related electronic information system was previously scheduled as permanent.

24. Federal Energy Regulatory Commission, Agency-wide (N1-138-09-5, 1 item, 1 temporary item). Docketed case files relating to electric utilities. Paper copies of these files were previously approved for disposal.

25. Nuclear Regulatory Commission, Office of Nuclear Security and Incident Response (N1-431-08-11, 3 items, 2 temporary items). Master files and system operations records for an electronic information system used to capture data on conditions at nuclear power plants during an emergency event. Proposed for permanent retention are reports documenting events.

Dated: November 20, 2009.
Michael J. Kurtz,
Assistant Archivist for Records Services—Washington, DC.

[FR Doc. E9-28406 Filed 11-24-09; 8:45 am]

BILLING CODE 7515-01-P